FEDERAL MARITIME COMMISSION

Notice of Agreements Filed

The Commission hereby gives notice of the filing of the following agreements under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 010979-039.

Title: Caribbean Shipowners Association.

Parties: Bernuth Lines, Ltd.; CMA CGM, S.A.; Crowley Liner Services, Inc.; Interline Connection, N.V.; Lykes Lines Limited; Seaboard Marine Ltd.; Seafreight Line, Ltd.; Sea Star Line, LLC; TMM Lines, LLC; Tropical Shipping and Construction Co., Ltd.; and Zim-American Israeli Shipping Co., Inc.

Synopsis: The amendment removes A.P. Moller Maersk as a party to the agreement and realigns several parties' participation in the geographical sections of the agreement.

Agreement No.: 011528-024.

Title: Japan/United States Eastbound Freight Conference.

Parties: A.P. Moller-Maersk Sealand; American President Lines, Ltd.; Hapag-Lloyd Container Linie GmbH; Kawasaki Kisen Kaisha, Ltd.; Mitsui O.S.K. Lines, Ltd.; Nippon Yusen Kaisha; Orient Overseas Container Line Limited; P&O Nedlloyd B.V.; P&O Nedlloyd Limited; and Wallenius Wilhelmsen Lines AS.

Synopsis: The amendment extends the suspension of the agreement through July 31, 2004.

Agreement No.: 011830-002.

Title: Indamex/APL Agreement.

Parties: Contship Containerlines; CMA CGM, S.A.; The Shipping Corporation of India Ltd.; APL Co. Pte Ltd.; and American President Lines, Ltd.

Synopsis: The proposed agreement modification reflects the redeployment of tonnage to be used under the agreement.

Agreement No.: 011852-003.

Title: Maritime Security Discussion Agreement.

Parties: American President Lines, Ltd.; APL Co. PTE Ltd.; APM Terminals North America, Inc.; CMA-CGM (America) Inc.; COSCO Container Lines Company, Ltd.; Evergreen Marine Corporation; Hanjin Shipping Company, Ltd.; Hapag Lloyd Container Linie GmbH; Kawasaki Kisen Kaisha Ltd.; A.P. Moller Maersk Sealand; Mitsui O.S.K. Lines, Ltd.; Nippon Yusen Kaisha; Yang Ming Transport Corp.; Zim Israel Navigation Co., Ltd.; Ceres Terminals, Inc.; Cooper/T. Smith Stevedoring Co., Inc.; Eagle Marine Services Ltd.; Global Terminal & Container Services, Inc.; Howland Hook Container Terminal, Inc.; Husky Terminal & Stevedoring, Inc.; International Shipping Agency; International Transportation Service, Inc.; Long Beach Container Terminal, Inc.; Maersk Pacific Ltd.; Maher Terminals, Inc.; Marine Terminals Corp.; Maryland Port Administration; Massachusetts Port Authority; Metropolitan Stevedore Co.; P&O Ports North American, Inc.; Port of Tacoma; South Carolina State Ports Authority; Stevedoring Services of America, Inc.; Trans Bay Container Terminal, Inc. TraPac Terminals; Universal Maritime Service Corp.; and Virginia International Terminals.

Synopsis: The amendment adds APM Terminals North America, Inc. as party to the agreement.

Dated: January 30, 2004.
By Order of the Federal Maritime Commission.
Bryant L. VanBrakle,
Secretary.

[FR Doc. 04-2295 Filed 2-3-04; 8:45 am]

BILLING CODE 6730-01-P